DEPARTMENT OF JUSTICE

Notice of Lodging of the Consent Decree Under the Pipeline Safety Act

Notice is hereby given that on July 26, 2007, a proposed Consent Decree in United States v. El Paso Natural Gas Co. (“EPNG”), Civil Action No. 1:07-cv-715, was lodged with the United States Court for the District of New Mexico.

The proposed Consent Decree resolves EPNG's violations of specific regulations promulgated under the Pipeline Safety Act, 49 U.S.C. section 60120. The Complaint filed concurrently with the Consent Decree alleges the following violations by EPNG: Violation of 49 CFR 192.475 by transporting corrosive gas on Pipelines 1103 and 1107; violation of 49 CFR 192.477 by failing to monitor the lines when corrosive gas is being transported on lines 1107 and 1103; and violation of 49 CFR 192.453 by failing to have personnel qualified in corrosion control methods. Under the terms of the Consent Decree, EPNG will pay a $15.5 million penalty, and implement injunctive relief on its 10,000 miles of pipeline system valued to cost at least $86 million. EPNG agrees to, among other things, modify its pipelines to enable in-line inspection tools to be used on its system; conduct sampling, monitoring, and inspections on its system; and provide training for its corrosion control specialists and corrosion engineers.

The Department of Justice will receive for a period of thirty (30) days from the date of this publication comments relating to the Consent Decree. Comments should be addressed to the Assistant Attorney General of the Environment and Natural Resources Division, and either e-mailed to pubcomment-ees.enrd@usdoj.gov, or mailed to the, P.O. Box 7611, U.S. Department of Justice, Washington, DC 20044-7611, and should refer to United States v. EPNG, D.J. Ref. 90-5-1-1-08184.

The Consent Decree may be examined at the Office of the United States Attorney, Federal Office Building, 201 Third Street, NW., Suite 900, Albuquerque, New Mexico 87102, and at United States Department of Transportation Docket Operations facility, West Building, Room W-12-140, 1200 New Jersey Avenue, SE., Washington, DC 20590. During the public comment period, the Consent Decree may also be examined on the following Department of Justice, Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $28.00 (25 cents per page reproduction cost) payable to the U.S. Treasury or, if by e-mail or fax, forward a check in that amount to the Consent Decree Library at the stated address.

Thomas Mariani,
Assistant Chief, Environmental Enforcement Section, Environment and Natural Resource Division.

[FR Doc. 07-3751 Filed 7-31-07; 8:45 am]

BILLING CODE 4410-15-M